DEPARTMENT OF COMMERCE

National Oceanic and Atmospheric Administration

Submission for OMB Review; Comment Request; West Coast Region Groundfish Electronic Fish Ticket Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 9, 2022 (87 FR 48469), during a 60-day comment period. This notice allows for an additional 30 days for public comments.

Agency: National Oceanic and Atmospheric Administration (NOAA), Commerce.

Title: West Coast Region Groundfish Electronic Fish Ticket Program.

OMB Control Number: 0648-0738.

Form Number(s): None.

Type of Request: Regular submission (extension of a currently approved collection).

Number of Respondents: 145.

Average Time per Response: Electronic fish ticket submission: 2 minutes; IFQ First Receiver Submission: 10 minutes; Pacific Whiting Disposition Recordkeeping, 1 minute.

Burden Hours: 2,102 hours.

Needs and Uses: As part of its fishery management responsibilities, the National Oceanic and Atmospheric Administration (NOAA), National Marine Fisheries Service (NMFS) collects information to determine the amount and type of groundfish caught by fishing vessels. Electronic fish tickets are submissions of landings data from the first receiver to the Pacific States Marine Fisheries Commission (PSMFC) and NMFS. This collection supports requirements for participants of the Pacific Coast shorebased commercial groundfish fisheries, including the shorebased Individual Fishing Quota (IFQ) program, the limited entry fixed gear fishery, and the open access fixed gear fishery, to account for all landed catch and to transmit electronic catch data used to manage the catch allocations and limits. NMFS may use this data for general purpose statistics and program evaluation.

Affected Public: Primary respondents are businesses or other for-profit organizations (e.g., groundfish fishermen, fishing companies, partnerships, and shorebased first receivers), individuals or households, and State fisheries agencies.

Frequency: Reporting occurs concurrently with fishing landings, which could range from occasionally to daily depending on the frequency of fishing throughout the season.

Respondent's Obligation: Mandatory.

This information collection request may be viewed at www.reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0738.

Sheleen Dumas,
Department PRA Clearance Officer, Office of the Chief Information Officer, Commerce Department.

[FR Doc. 2023-00052 Filed 1-5-23; 8:45 am]

BILLING CODE 3510-22-P